ENVIRONMENTAL PROTECTION AGENCY

[ER-FRL-9050-9]

Environmental Impact Statements; Notice of Availability

Responsible Agency: Office of Federal Activities, General Information 202-564-5632 or https://www.epa.gov/nepa.

Weekly receipt of Environmental Impact Statements (EIS)

Filed May 11, 2020, 10 a.m. EST Through May 18, 2020, 10 a.m. EST

Pursuant to 40 CFR 1506.9.

Section 309(a) of the Clean Air Act requires that EPA make public its comments on EISs issued by other Federal agencies. EPA's comment letters on EISs are available at: https://cdxnodengn.epa.gov/cdx-enepa-public/action/eis/search.

EIS No. 20200106, Draft, BR, ND, Eastern North Dakota Alternate Water Supply, Comment Period Ends: 07/06/2020, Contact: Damien Reinhart 701-221-1275.

EIS No. 20200107, Final, USFWS, CA, Placer County Conservation Program Final Environmental Impact Statement/Environmental Impact Report, Review Period Ends: 06/22/2020, Contact: Stephanie Jentsch 916-414-6600.

EIS No. 20200108, Final, BLM, ID, Blackrock Land Exchange Final Environmental Impact Statement, Review Period Ends: 07/21/2020, Contact: Bryce Anderson 208-478-6353. Amended Notice:

EIS No. 20200091, Draft, CHSRA, CA, San Jose to Merced Project Section Draft Environmental Impact Report/Environmental Impact Statement, Comment Period Ends: 06/23/2020, Contact: Dan McKell 916-330-5668. Revision to FR Notice Published 4/24/2020; Extending the Comment Period from 6/08/2020 to 6/23/2020.

EIS No. 20200099, Final, APHIS, PRO, Revisions to USDA-APHIS 7 CFR part 340 Regulations Governing the Importation, Interstate Movement, and Environmental Release of Certain Genetically Engineered Organisms, Review Period Ends: 06/22/2020, Contact: Cindy Eck 301-851-3892. Revision to FR Notice Published 5/08/2020; Extending the Comment Period from 6/08/2020 to 6/22/2020.

Dated: May 18, 2020.
Cindy S. Barger,
Director, NEPA Compliance Division, Office of Federal Activities.

[FR Doc. 2020-11069 Filed 5-21-20; 8:45 am]

BILLING CODE 6560-50-P